DEPARTMENT OF DEFENSE

Department of the Army

Availability for Non-Exclusive, Exclusive, or Partially Exclusive Licensing of U.S. Patent Applications Concerning Specific Inihibitors and Therapeutic Agents for Botulinum Toxin B and Tetanus Neurotoxins

AGENCY: Department of the Army, DOD.

ACTION: Notice.

SUMMARY: In accordance with 37 CFR 404.6 and 404.7, announcement is made of the availability for licensing of the related U.S. patent applications concerning “Specific Inhibitors and therapeutic Agents for Botulinum Toxin B and Tetanus Neurotoxins” listed below. The United States Government, as represented by the Secretary of the Army, has rights in these inventions. Foreign rights are also available.

ADDRESSES: Commander, U.S. Army Medical Research and Materiel Command, ATTN: Command Judge Advocate, MCMR-JA, 504 Scott Street, Fort Detrick, Frederick, MD 1702-5012.

FOR FURTHER INFORMATION CONTACT: For patent issues, Ms. Elizabeth Arwine, Patent Attorney, (301) 619-7808. For licensing issues, Dr. Paul Mele, Office of Research & Technology Assessment, (301) 619-6664, bh at telefax (301) 619-5034.

SUPPLEMENTARY INFORMATION: The following patents are available for licensing:

(1) U.S. Patent Application No.: 09/570,022.

Filed: May 12, 2000.

Title: Previns as Specific Inhibitors and Therapeutic Agents for Botulinum

Toxin B and Tetanus Neurotoxins.

Supplementary Information: The compounds of the invention may be used as molecular building blocks to create compounds that are optimized for inhibiting the protease activity of Botulinum B and tetanus toxins. Foreign rights (PCT/US00/13215) are also available.

(2) U.S. Patent Application No.: 09/570,023.

Filed: May 12, 2000.

Title: Buforin I as a Specific Inhibitor and Therapeutic Agent for Botulinum Toxin B and Tetanus Neurotoxins.

Supplementary Information: The compounds of the invention may be used to inhibit the protease activity of Botulinum B and tetanus toxins. . Foreign rights (PCT/US00/12909) are also available.

(3) U.S. Patent Application No.: 09/979,101.

Filed: November 19, 2001.

Title: Previns as Specific Inhibitors and Therapeutic Agents for Botulinum Toxin B and Tetanus Neurotoxins.

Supplementary Information: The compounds of the invention may be used as molecular building blocks to create compounds that are optimized for inhibiting the protease activity of Botulinum B and tetanus toxins. Foreign rights (PCT/US00/13215) are also available.

Luz D. Ortiz,
Army Federal Register Liaison Officer.

[FR Doc. 02-19712 Filed 8-2-02; 8:45 am]

BILLING CODE 3910-08-M